DEPARTMENT OF TRANSPORTATION

Surface Transportation Board

[Docket No. FD 35682]

Decatur Junction Railway Co.—Acquisition and Operation Exemption—Line of Illinois Central Railroad Company

Decatur Junction Railway Co. (DJR), a Class III rail carrier, has filed a verified notice of exemption under 49 CFR 1150.41 to acquire from Illinois Central Railroad Company (IC), and to operate, approximately 4.4 miles of rail line between milepost 745.54 near Elwin and milepost 749.94 near Decatur, in Macon County, Ill. (the Line).

DJR currently leases from IC, and operates, 17 miles of rail line between milepost 745.54 near Elwin and milepost 728.0 near Assumption, Ill.¹ DJR also has incidental trackage rights over the Line and over IC's trackage north of milepost 749.94 for purposes of interchange with IC at Decatur, Ill., and for transit of DJR's equipment to DJR's line between Decatur and Cisco, Ill.

¹ See Decatur Terminal Ry.—Lease and Operation Exemption—Lines in Illinois, FD 32365 (ICC served Oct. 18, 1993, as corrected Oct. 26, 1993).

DJR states that, pursuant to an agreement between the parties, DJR intends to purchase, operate, maintain, and perform all rail common carrier service on the Line. DJR also states that the agreement contains no restrictions on interchange, and that it will operate the Line as part of its existing rail line between Elwin and Assumption.

The transaction is expected to be consummated on or about November 12, 2012. The earliest this transaction can be consummated is November 10, 2012, the effective date of the exemption.

DJR certifies that its projected annual revenues as a result of this transaction will not result in DJR's becoming a Class II or Class I rail carrier. DJR further certifies that it projected annual revenues will not exceed $5 million.

If the verified notice contains false or misleading information, the exemption is void ab initio. Petitions to revoke the exemption under 49 U.S.C. 10502(d) may be filed at any time. The filing of a petition to revoke will not automatically stay the effectiveness of the exemption. Petitions to stay must be filed no later than November 2, 2012 (at least 7 days before the exemption becomes effective).

An original and 10 copies of all pleadings, referring to Docket No. FD 35682, must be filed with the Surface Transportation Board, 395 E Street SW., Washington, DC 20423-0001. In addition, a copy of each pleading must be served on Daniel A. LaKemper, General Counsel, Decatur Junction Railway Co., 1318 S. Johanson Road, Peoria, IL 61607.

Board decisions and notices are available on our Web site at www.stb.dot.gov.

Decided: October 23, 2012.
By the Board, Rachel D. Campbell, Director, Office of Proceedings.
Derrick A. Gardner,
Clearance Clerk.

[FR Doc. 2012-26373 Filed 10-25-12; 8:45 am]

BILLING CODE 4915-01-P